COMMISSION ON CIVIL RIGHTS

Notice of Public Meeting of the Illinois Advisory Committee; Correction

AGENCY: Commission on Civil Rights.

ACTION: Notice; correction.

SUMMARY: The Commission on Civil Rights published a notice in the Federal Register on Tuesday, March 29, 2022, concerning a meeting of the Illinois Advisory Committee. The document contained the incorrect meeting time.

FOR FURTHER INFORMATION CONTACT: Liliana Schiller, lschiller@usccr.gov, 202-376-7756.

SUPPLEMENTARY INFORMATION:

Correction

In the Federal Register on Tuesday, March 29, 2022, in FR Document Number 2022-06530, on page 17981, second column, correct the meeting time in the SUMMARY to 1:00 p.m. CT.

Dated: Tuesday, April 4, 2022.
David Mussatt,
Supervisory Chief, Regional Programs Unit.

[FR Doc. 2022-07473 Filed 4-7-22; 8:45 am]

BILLING CODE 6335-01-P